DEPARTMENT OF TRANSPORTATION

Federal Highway Administration

Notice of Final Federal Agency Actions on Proposed Highways in Texas

AGENCY: Federal Highway Administration (FHWA), (DOT).

ACTION: Notice of Limitation on Claims for Judicial Review of Actions by FHWA and Other Federal Agencies.

SUMMARY: This notice announces actions taken by the FHWA and other Federal agencies that are final within the meaning of 23 U.S.C. 139(l)(1). The actions relate to various proposed highway projects in Tarrant, Dallas and Denton Counties, Texas. Those actions grant licenses, permits, and approvals for the projects.

DATES: By this notice, the FHWA is advising the public of final agency actions subject to 23 U.S.C. 139(l)(1). A claim seeking judicial review of the Federal agency actions on any of the listed highway projects will be barred unless the claim is filed on or before March 10, 2013. If the Federal law that authorizes judicial review of a claim provides a time period of less than 150 days for filing such claim, then that shorter time period still applies.

FOR FURTHER INFORMATION CONTACT: For FHWA: Mr. Achille Alonzi, Assistant Division Administrator, Texas Division, Federal Highway Administration, 300 E. 8th Street, Room 826, Austin, Texas 78701; 8:00 a.m. to 5:00 p.m. (central time) Monday through Friday, 512-536-5902; email: al.alonzi@fhwa.dot.gov. For Texas Department of Transportation (TxDOT): Mr. Carlos Swonke, Director of Environmental Affairs Division, Texas Department of Transportation (TxDOT), 118 E. Riverside, Austin, Texas 78704; 8:00 a.m. to 5:00 p.m. (central time) Monday through Friday, 512-416-2734; email: carlos.swonke@txdot.gov.

SUPPLEMENTARY INFORMATION: Notice is hereby given that the FHWA and other Federal agencies have taken final agency actions by issuing licenses, permits, and approvals for the highway projects in the State of Texas that are listed below. The actions by the Federal agencies on a project, and the laws under which such actions were taken, are described in the documented environmental assessments (EAs) issued in connection with the project, and in other FHWA project records. The EAs and other documents from the FHWA project record files for the listed projects are available by contacting the FHWA or TxDOT at the addresses provided above.

This notice applies to all Federal agency decisions on the listed projects as of the issuance date of this notice and all laws under which such actions were taken. This notice does not apply to the U.S. Army Corps of Engineering (USACE) permitting process for these projects, because no USACE permits have been issued for any of the projects to date. The laws under which Federal agency decisions were made on the projects listed in this notice include, but are not limited to:

1. General: National Environmental Policy Act (NEPA) [42 U.S.C. 4321-4351]; Federal-Aid Highway Act (FAHA) [23 U.S.C. 109 and 128].

2. Air: Clean Air Act (CAA), 42 U.S.C. 7401-7671(q).

3. Land: Section 4(f) of the Department of Transportation Act of 1966 [49 U.S.C. 303].

4. Wildlife: Endangered Species Act (ESA) [16 U.S.C. 1531-1544 and Section 1536], Migratory Bird Treaty Act (MBTA) [16 U.S.C. 703-712].

5. Historic and Cultural Resources: Section 106 of the National Historic Preservation Act of 1966, as amended (106) [16 U.S.C. 470(f) et seq.]; Archeological Resources Protection Act of 1979 (ARPA) [16 U.S.C. 470(aa)-470(11)]; Archeological and Historic Preservation Act (AHPA) [16 U.S.C. 469-469(c)]; Native American Grave Protection and Repatriation Act (NAGPRA) [25 U.S.C. 3001-3013]

6. Social and Economic: Civil Rights Act of 1964 (Civil Rights) [42 U.S.C. 2000(d)-2000(d)(1)]; American Indian Religious Freedom Act (AIRF) [42 U.S.C. 1996]; Farmland Protection Policy Act (FPPA) [7 U.S.C. 4201-4209].

7. Wetlands and Water Resources: Clean Water Act, 33 U.S.C. 1251-1377 (Section 404, Section 401, Section 319); Rivers and Harbors Act of 1899 (RHA), 33 U.S.C. 401-406; Safe Drinking Water Act (SDWA) [42 U.S.C. 300(f)-300(j)(6); Emergency Wetlands Resources Act (EWRA) [16 U.S.C. 3921, 3931]; Wetlands Mitigation (WM) [23 U.S.C. 103(b)(6)(M) and 133(b)(11); Flood Disaster Protection Act (FDPA) [42 U.S.C. 4001-4128].

8. Executive Orders: E.O. 11990 Protection of Wetlands; E.O. 11988 Floodplain Management; E.O. 13007 Indian Sacred Sites; E.O. 13287 Preserve America; E.O. 13175 Consultation and Coordination with Indian Tribal Governments; E.O. 12898 Federal Actions to Address Environmental Justice in Minority Populations and Low Income Populations; E.O. 13112 Invasive Species and the Executive Memorandum on Beneficial Landscaping; and E.O. 13166, Improving Access to Services for Persons with Limited English Proficiency.

The projects subject to this notice are:

(1) Project location: The 10.8 mile section of Interstate Highway (IH) 35W North study limits extend from State Highway (SH) 114 in Denton County to IH 820 in Tarrant County Texas. The proposed improvements extend from south of SH 114 at Eagle Parkway to IH 820.

Project reference number: TxDOT Control Section Job numbers (CSJs): 0014-16-252, 0014-16-255, 0081-12-041 & 0081-13-904.

Project Type: The various ultimate lane configurations of the three sections of the roadway are described as follows:

• From Eagle Parkway to US 81/287, the proposed project will consist of reconstructing and widening the roadway to a 10-lane facility consisting of three general purpose lanes (non-toll) in each direction and a barrier-separated four-lane concurrent managed (toll) lane facility (two lanes in each direction). The concurrent managed (toll) lane facility will be centered between the general purpose lanes (non-toll). Auxiliary lanes will be constructed between entrance and exit ramps along the roadway and two/three lane frontage roads in each direction with bicycle accommodation will be constructed. Direct connectors from IH 35W to SH 170 will also be constructed.

• From US 81/287 to Basswood Boulevard, the proposed project will consist of reconstructing and widening the roadway to a 12-lane facility consisting of four general purpose lanes (non-toll) in each direction and a barrier-separated four-lane concurrent managed (toll) lane facility (two lanes in each direction). The concurrent managed (toll) lane facility will be centered between the general purpose lanes (non-toll). Auxiliary lanes will be constructed between entrance and exit ramps along the roadway and two/three/four-lane frontage roads in each direction with bicycle accommodation will be constructed throughout this section. Direct connectors to/from US 81/287 from IH 35W managed (toll) lanes will be constructed.

• From Basswood Boulevard to IH 820, the proposed project will consist of reconstructing and widening the roadway to a 14-lane facility consisting of four general purpose lanes (non-toll) in each direction and a barrier-separated six-lane concurrent managed (toll) lane facility (three lanes in each direction). The concurrent managed (toll) lane facility will be centered between the general purpose lanes (non-toll). Auxiliary lanes will be constructed between entrance and exit ramps along the roadway and two/three/four-lane frontage roads in each direction with bicycle accommodation will be constructed throughout this section.

The proposed project does not include improvements to the IH 35W/IH 820 interchange. The interchange (extending from the centerline of IH 820 to 825 feet north of Fossil Creek Boulevard) will be constructed as part of the IH 820 improvement project that was approved by FHWA on December 30, 2008.

Final actions taken under: NEPA, FAHA, CAA, Section 106, ESA, MBTA, ARPA, AHPA, NAGPRA, Civil Rights Act of 1964, RHA, Section 401, AIRF, FPPA, SDWA, EWRA, WM, FDPA, E.O. 11990, E.O. 11988, E.O. 13007, E.O. 13287, E.O. 13175, E.O. 12898, E.O. 13112 and E.O. 13166.

FHWA NEPA documents: A Finding of No Significant Impact (FONSI) was issued by FHWA on March 19, 2012. The EA, FONSI and other documents in the administrative record are available by contacting the FHWA or TxDOT at the addresses provided above or at: http://txdot.gov/project_information/projects/fort_worth/north_tarrant_express/environmental_studies.htm.

(2) Project Location: A 5.4 mile section along IH 35W South from IH 820 to IH 30, and includes improvements along US 287 from IH 35W to IH 30 and along SH 121 from Riverside Drive to Belknap Street/Weatherford Street in downtown Fort Worth in Tarrant County Texas. The proposed project construction limits extend along IH 35W from just north of Meacham Boulevard to just north of IH 30, along SH 121 from Riverside Drive west to IH 35W, along US 287 from IH 35W to IH 30, and from IH 35W west along Belknap Street and Weatherford Street to their crossing with the Burlington Northern Santa Fe Railroad (BNSF) in downtown Fort Worth. Improvements to the interchanges at IH 820 and IH 30 are not included in the proposed project, but improvements to the SH 121 and US 287 interchanges are included.

Project reference number: TxDOT CSJs: 0014-16-179 & 0014-16-268.

Project type:

• On IH 35W from IH 820 to IH 30, the proposed project will consist of 8 general purpose lanes plus auxiliary lanes (non-toll), four/two-lanes concurrent High Occupancy Vehicles (HOV)/managed lanes (toll) and auxiliary lanes, four/six/eight-lanes continuous and discontinuous frontage road lanes (that includes auxiliary lanes near ramp locations and cross streets).

• Along US 287 from IH 35W to IH 30, the project will consist of 6 general purpose lanes (non-toll), two concurrent HOV/managed lanes (toll) and two lanes discontinuous frontage road lanes (that includes two-way northbound frontage road from Cypress Street to 4th Street).

• On SH 121 from IH 35W to Riverside Drive, the project will consist of 8 general purpose lanes (non-toll), continuous frontage roads for the length of the improvement on SH 121 and direct connectors will be provided to IH 35W north and south with local access to Belknap-Weatherford Streets.

The proposed project does not include improvements to the IH 35W/IH 820 interchange. The interchange (extending from the centerline of IH 820 to 825 feet north of Fossil Creek Boulevard) will be constructed as part of the IH 820 improvement project that was approved by FHWA on December 30, 2008.

Final actions taken under: NEPA, FAHA, CAA, Section 4(f), Section 106, ESA, MBTA, ARPA, AHPA, NAGPRA, Civil Rights Act of 1964, AIRF, FPPA, SDWA, EWRA, WM, FDPA, RHA, Section 401, E.O. 11990, E.O. 11988, E.O. 13007, E.O. 13287, E.O. 13175, E.O. 12898, E.O. 13112 and E.O. 13166.

FHWA NEPA documents: A Finding of No Significant Impact (FONSI) and Section 4(f) de minimis determination was issued by FHWA on August 24, 2012. The EA, FONSI and other documents in the administrative record are available by contacting the FHWA or TxDOT at the addresses provided above or at: http://txdot.gov/project_information/projects/fort_worth/north_tarrant_express/environmental_studies.htm.

(3) Project Location: The IH 35E North section from FM 2181 to US 380 is approximately 11 miles in length located in Denton County Texas.

Project reference number: TxDOT CSJs: 0195-03-050, 0195-03-071, 0195-03-075, 0196-01-056 & 0196-01-074.

Project Type: The proposed improvements include reconstruction of existing 4 lanes to eight mainlanes (four in each direction); two to four concurrent tolled HOV/managed lanes in the center median (one to two in each direction) of IH 35E; and two-, three- and four-lane continuous frontage roads in each direction along the entire project.

Final actions taken under: NEPA, FAHA, CAA, Section 106, ESA, MBTA, ARPA, AHPA, NAGPRA, Civil Rights Act of 1964, AIRF, FPPA, SDWA, EWRA, WM, FDPA, RHA, Section 401, E.O. 11990, E.O. 11988, E.O. 13007, E.O. 13287, E.O. 13175, E.O. 12898, E.O. 13112 and E.O. 13166.

FHWA NEPA documents: A Finding of No Significant Impact (FONSI) was issued by FHWA on January 31, 2012. The EA, FONSI and other documents in the administrative record are available by contacting the FHWA or TxDOT at the addresses provided above or at: http://www.keepitmovingdallas.com/projects/interstate-highways/ih-35e-from-ih-635-to-us-380/schematics-and-environmental-documents.

(4) Project Location: The IH 35E Middle section from President George Bush Turnpike (PGBT) to FM 2181 is approximately 12 miles in length located in Denton and Dallas County Texas.

Project reference number: TxDOT CSJs: 0196-02-068, 0196-01-096, 0196-02-073, 0196-02-114, and 0196-03-245.

Project Type: The proposed improvements include reconstruction of existing 6 lanes to eight mainlanes (four in each direction); two to four lane collector distributor (each direction) from PGBT to north of SH 121; four concurrent tolled HOV/managed lanes in the center median (two in each direction) of IH 35E; and two, three and four-lane continuous frontage roads in each direction along the entire project.

Final actions taken under: NEPA, FAHA, CAA, Section 4(f), Section 106, ESA, MBTA, ARPA, AHPA, NAGPRA, Civil Rights Act of 1964, AIRF, FPPA, SDWA, EWRA, WM, FDPA, RHA, Section 401, E.O. 11990, E.O. 11988, E.O. 13007, E.O. 13287, E.O. 13175, E.O. 12898, E.O. 13112 and E.O. 13166.

FHWA NEPA documents: A Finding of No Significant Impact (FONSI) and approvals of Programmatic Section 4(f) Net Benefits was issued by FHWA on January 28, 2011, and a FONSI by the U.S. Army Corps of Engineers on February 2, 2011. The EA, FONSIs and other documents in the administrative record are available by contacting the FHWA or TxDOT at the addresses provided above or at: http://www.keepitmovingdallas.com/projects/interstate-highways/ih-35e-from-ih-635-to-us-380/schematics-and-environmental-documents.

(5) Project Location: The IH 35E South section from IH 635 to President George Bush Turnpike (PGBT) is approximately 5 miles in length located in Dallas County Texas.

Project reference number: TxDOT CSJs: 0196-03-138, 0196-03-180, and 0196-03-240.

Project Type: The proposed improvements include reconstruction of existing 6 lanes to eight mainlanes (four in each direction); two- to four-lane collector distributor (each direction) from Sandy Lake Road/Whitlock Lane to PGBT; four concurrent tolled HOV/managed lanes in the center median (two in each direction) of IH 35E; and two-, three- and four-lane continuous frontage roads in each direction along the entire project.

Final actions taken under: NEPA, FAHA, CAA, ESA, MBTA, Section 106, ARPA, AHPA, NAGPRA, Civil Rights Act of 1964, AIRF, FPPA, SDWA, EWRA, WM, FDPA, RHA, Section 401, E.O. 11990, E.O. 11988, E.O. 13007, E.O. 13287, E.O. 13175, E.O. 12898, E.O. 13112 and E.O. 13166.

FHWA NEPA documents: A Finding of No Significant Impact (FONSI) was issued by FHWA on December 28, 2011. The EA, FONSI and other documents in the administrative record are available by contacting the FHWA or TxDOT at the addresses provided above or at: http://www.keepitmovingdallas.com/projects/interstate-highways/ih-35e-from-ih-635-to-us-380/schematics-and-environmental-documents.

(6) Project Location: The SH 183 from SH 360 to IH 35E is approximately 8 miles in length located in Tarrant and Dallas Counties Texas.

Project reference number: TxDOT CSJs: 0094-03-065, 0094-07-015, and 0094-07-020.

Project Type: The proposed improvements include reconstruction of existing six lanes to eight mainlanes (four in each direction); four to six concurrent tolled HOV/managed lanes (two to three in each direction); and two- to three-lane continuous frontage roads in each direction along the entire project. The design process produced additional mainlanes, continuous frontage roads in each direction along the corridor, addition of HOV/managed lanes in the center median, and no conversion of existing mainlanes into tolled HOV/managed lanes.

Final actions taken under: NEPA, FAHA, CAA, Section 4(f), Section 106, ESA, MBTA, ARPA, AHPA, NAGPRA, Civil Rights Act of 1964, AIRF, FPPA, SDWA, EWRA, WM, FDPA, RHA, Section 401, E.O. 11990, E.O. 11988, E.O. 13007, E.O. 13287, E.O. 13175, E.O. 12898, E.O. 13112 and E.O. 13166.

FHWA NEPA documents: A Finding of No Significant Impact (FONSI) was issued by FHWA on February 10, 2004. The reevaluation and public involvement conducted thus far indicated no additional environmental concerns have been identified. Therefore, on April 9, 2012, FHWA concurred that the original FONSI issued on February 10, 2004 remains valid for the approved EA. The EA, FONSI and other documents in the administrative record are available by contacting the FHWA or TxDOT at the addresses provided above or at: http://www.keepitmovingdallas.com/projects/state-highways/sh-183.

(7) Project Location: Dallas Horseshoe Project includes improvements along IH 30 from Sylvan Avenue to west of IH 45 and along IH 35E, and from 8th Street to IH 30. The project is approximately 5 miles in length and is located in Dallas County Texas.

Project reference number: TxDOT CSJs: 0196-03-205, 0442-02-118, 0442-02-132, 1068-04-099, 1068-04-116, and 0009-11-226.

Project Type: The project consists mainly of the replacement of the IH 30 and IH 35E bridge structures that cross the Dallas Floodway and the reconstruction of the IH 35E at IH 30 interchange commonly known as the Mixmaster. The proposed improvements would include the addition of general purpose lanes, collector distributor roads, access ramps, and direct connection ramps. Other improvements include the continuous frontage roads, the extension of the existing reversible HOV lane along IH 35E, and cross street improvements. The proposed project would also accommodate pedestrian and bicycle facilities. The main components of the proposed project are described as follows:

• IH 30 and IH 35E Bridge Replacement: The existing IH 30 bridge structures would be replaced with four new bridge structures each (two structures for the mainlanes and two structures for the frontage roads). Each IH 30 mainlane bridge would consist of five travel lanes. Each frontage road bridge would include two lanes. The IH 35E bridge structures would also be replaced with four new bridge structures. The IH 35E northbound bridges would consist of three travel lanes, two reversible HOV lanes, separated from the mainlanes by an outside shoulder and a concrete traffic barrier; five collector distributor lanes, and a sidewalk. The IH 35E southbound bridges would consist of four travel lanes, four collector distributor lanes, and a sidewalk along the outside of the collector distributor road.

• Interchange reconstruction: The Mixmaster would be reconstructed to include new direct connectors, collector distributor lanes, mainlanes, reversible HOV lanes, and extension of the IH 30 frontage road which would include one outside lane for shared-use for bikes and vehicles, and a sidewalk. The existing HOV lane within the Mixmaster would be widened from one to two lanes and extended approximately 1,900 feet north to Reunion Boulevard.

• Cross street improvements proposed at Beckley Avenue, Riverfront Boulevard, and Colorado Boulevard. Beckley Avenue would include reconstruction of the existing U-turn lane, the addition of sidewalks on both sides of the street, and an outside shared-use lane to accommodate bicycle traffic which would intersect with the Coombs Creek Trail Extension. The proposed improvements along Riverfront Boulevard would include a sidewalks and outside shared-use lanes for bikes and vehicles. The proposed improvements along Colorado Boulevard include the replacement of the half cloverleaf interchange and the realignment of Colorado Boulevard with full reconstruction.

Final actions taken under: NEPA, FAHA, CAA, ESA, MBTA, Section 106, ARPA, AHPA, NAGPRA, Civil Rights Act of 1964, AIRF, FPPA, SDWA, EWRA, WM, FDPA, RHA, Section 401, Supplemental Appropriations Act, 2010, Pub. L. No. 111-212, § 405, 124 Stat. 2302, 2314 (2010), E.O. 11990, E.O. 11988, E.O. 13007, E.O. 13287, E.O. 13175, E.O. 12898, E.O. 13112 and E.O. 13166.

FHWA NEPA documents: A Finding of No Significant Impact (FONSI) was issued by FHWA on September 18, 2012. The EA, FONSI and other documents in the administrative record are available by contacting the FHWA or TxDOT at the addresses provided above or at: http://www.keepitmovingdallas.com/public-hearings/2012/dallas-horseshoe-project-ih30-ih35e.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405 (2012).

Issued on: October 4, 2012.
Achille Alonzi,
Assistant Division Administrator, Austin, Texas.

[FR Doc. 2012-25004 Filed 10-10-12; 8:45 am]

BILLING CODE 4910-RY-P